DEPARTMENT OF LABOR

Employment and Training Administration

[TA-W-52,362]

Cookson Electronics, Assembly Material Group, a Division of Frys Metals, Inc., d/b/a Alpha Metals, Jersey City, NJ; Dismissal of Application for Reconsideration

Pursuant to 29 CFR 90.18(C) an application for administrative reconsideration was filed with the Director of the Division of Trade Adjustment Assistance for workers at Cookson Electronics, Assembly Material Group, a division of Frys Metals, Inc., d/b/a Alpha Metals, Jersey City, New Jersey. The application contained no new substantial information which would bear importantly on the Department's determination. Therefore, dismissal of the application was issued.

TA-W-52,362; Cookson Electronics, Assembly Material Group, a div. of Frys Metals, Inc., d/b/a Alpha Metals, Jersey City, NJ (January 8, 2004).

Signed at Washington, DC this 14th day of January 2004.
Timothy Sullivan,
Director, Division of Trade Adjustment Assistance.

[FR Doc. 04-1435 Filed 1-22-04; 8:45 am]

BILLING CODE 4510-30-P